DEPARTMENT OF ENERGY

Energy Information Administration

Agency Information Collection Activities: Proposed Collection; Comment Request

AGENCY: Energy Information Administration (EIA), Department of Energy (DOE).

ACTION: Agency Information Collection Activities: Proposed Collection; Comment Request.

SUMMARY: The EIA is soliciting comments on the proposed revisions and three-year extension to the following Petroleum Supply Forms: EIA-800, “Weekly Refinery and Fractionator Report,” EIA-802, “Weekly Product Pipeline Report,” EIA-803, “Weekly Crude Oil Stocks Report,” EIA-804, “Weekly Imports Report,” EIA-805, “Weekly Terminal Blenders Report,” EIA-809, “Weekly Oxygenate Report,” EIA-810, “Monthly Refinery Report,” EIA-812, “Monthly Product Pipeline Report,” EIA-813, “Monthly Crude Oil Report,” EIA-814, “Monthly Imports Report,” EIA-815, “Monthly Terminal and Blender Report,” EIA-816, “Monthly Natural Gas Liquids Report,” EIA-817, “Monthly Tanker and Barge Movement Report,” EIA-819, “Monthly Oxygenate Report,” and EIA-820, “Annual Refinery Report.”

DATES: Comments must be filed by July 6, 2010. If you anticipate difficulty in submitting comments within that period, contact the person listed below as soon as possible.

ADDRESSES: Send comments to Sylvia Norris. To ensure receipt of the comments by the due date, submission by FAX (202-586-1076) or e-mail (sylvia.norris@eia.doe.gov) is recommended. The mailing address is Petroleum Division, EI-42, Forrestal Building, U.S. Department of Energy, 1000 Independence Ave., SW., Washington, DC 20585. Alternatively, Sylvia Norris may be contacted by telephone at 202-586-6106.

FOR FURTHER INFORMATION CONTACT: Requests for additional information or copies of any forms and instructions should be directed to Sylvia Norris at the address listed above. The proposed forms and changes in definitions and instructions are also available on the Internet at: http://www.eia.doe.gov/oil_gas/petroleum/survey_forms/pet_survey_forms.html.

SUPPLEMENTARY INFORMATION:

I. Background

II. Current Actions

III. Request for Comments

I. Background

The Federal Energy Administration Act of 1974 (15 U.S.C. 761 et seq.) and the DOE Organization Act (42 U.S.C. 7101 et seq.) require the EIA to carry out a centralized, comprehensive, and unified energy information program. This program collects, evaluates, assembles, analyzes, and disseminates information on energy resource reserves, production, demand, technology, and related economic and statistical information. This information is used to assess the adequacy of energy resources to meet near and longer term domestic demands and to promote sound policymaking, efficient markets, and public understanding of energy and its interaction with the economy and the environment.

The EIA, as part of its effort to comply with the Paperwork Reduction Act of 1995 (44 U.S.C. 3501, et seq.), provides the general public and other Federal agencies with opportunities to comment on collections of energy information conducted by or in conjunction with the EIA. Also, the EIA will later seek approval for this collection by the Office of Management and Budget (OMB) under Section 3507(a) of the Paperwork Reduction Act of 1995.

The weekly petroleum supply surveys (Forms EIA-800, EIA-802, EIA-803, EIA-804, EIA-805 and EIA-809) are designed to highlight information on petroleum refinery operations, inventory levels, and imports of selected petroleum products in a timely manner. The information appears in the publications listed below and is also available electronically through the Internet at http://www.eia.doe.gov/.

Publications: Internet only publications are the Weekly Petroleum Status Report, Short-Term Energy Outlook, and This Week in Petroleum.

The monthly petroleum supply surveys (Forms EIA-810, EIA-812, EIA-813, EIA-814, EIA-815, EIA-816, EIA-817, and EIA-819) are designed to provide statistically reliable and comprehensive information not available from other sources to EIA, other Federal agencies, and the private sector for use in forecasting, policy making, planning, and analysis activities. The information appears in the publications listed below and is also available electronically through the Internet at http://www.eia.doe.gov/.

Publications: Internet only publications are the Petroleum Supply Monthly, Petroleum Supply Annual, and Short-Term Energy Outlook. Hardcopy and Internet publications are the Monthly Energy Review (DOE/EIA-0035), the Annual Energy Review (DOE/EIA-0384), and the Annual Energy Outlook (DOE/EIA-0383).

The annual petroleum supply survey (Form EIA-820) provides data on capacities, fuels consumed, natural gas consumed as hydrogen feedstock, crude oil receipts by method of transportation, and storage capacity of operating and idle petroleum refineries (including new refineries under construction), refineries shutdown with useable storage capacity, and refineries shutdown during the previous year. The information appears in the Refinery Capacity Report available electronically through the Internet at http://www.eia.doe.gov/.

Please refer to the proposed forms and instructions for more information about the purpose, who must report, when to report, where to submit, the elements to be reported, detailed instructions, provisions for confidentiality, and uses (including possible nonstatistical uses) of the information. For instructions on obtaining materials, see the FOR FURTHER INFORMATION CONTACT section.

II. Current Actions

The EIA proposes the following changes: For the Form EIA-801 (Weekly Bulk Terminal Report)—Discontinue collection of this report. All bulk terminal and blender reporting will be reported by site on Form EIA-805 (Weekly Bulk Terminal and Blender Report).

For the Form EIA-805 (Weekly Bulk Terminal and Blender Report)—Collect inventories for natural gas plant liquids and liquefied refinery gases, propane (including propylene), propylene (nonfuel use), fuel ethanol, finished motor gasoline (reformulated blended with fuel ethanol, reformulated other, conventional blended with fuel ethanol (Ed55 and lower, greater than Ed55), and conventional other), motor gasoline blending components (RBOB, CBOB, GTAB and all other), kerosene-type jet fuel, kerosene, distillate fuel oil (15 ppm sulfur and under, greater than 15 ppm to 500 ppm sulfur (incl), greater than 500 ppm sulfur), residual fuel oil and asphalt and road oil. Collect inputs and production for fuel ethanol, jet fuel, distillate fuel oil (15 ppm sulfur and under, greater than 15 ppm to 500 ppm sulfur (incl), greater than 500 ppm sulfur), and residual fuel oil.

For the form EIA-820 (Annual Refinery Report)—Discontinue collection of storage capacity on an annual basis. This information is now being collected semi-annually (March and September) on Form EIA-810, “Monthly Refinery Report.”

III. Request for Comments

Prospective respondents and other interested parties should comment on the actions discussed in item II. The following guidelines are provided to assist in the preparation of comments. Please indicate to which form(s) your comments apply.

As a Potential Respondent to the Request for Information

A. Is the proposed collection of information necessary for the proper performance of the functions of the agency and does the information have practical utility?

B. What actions could be taken to help ensure and maximize the quality, objectivity, utility, and integrity of the information to be collected?

C. Are the instructions and definitions clear and sufficient? If not, which instructions need clarification?

D. Can the information be submitted by the respondent by the due date?

E. Public reporting burden for this collection is estimated to average:

Estimated hours per response: EIA-800, “Weekly Refinery and Fractionator Report,”—1.58 hours; EIA-802, “Weekly Product Pipeline Report,”—0.95 hours; EIA-803, “Weekly Crude Oil Stocks Report,”—0.50 hours; EIA-804, “Weekly Imports Report,”—1.75 hours; EIA-805, “Weekly Terminal Blenders Report,”—2.30 hours; EIA-809, “Weekly Oxygenate Report,”—1.00 hours; EIA-810, “Monthly Refinery Report,”—6.00 hours; EIA-812, “Monthly Product Pipeline Report,”—4.30 hours; EIA-813, “Monthly Crude Oil Report,”—2.50 hours; EIA-814, “Monthly Imports Report,”—2.55 hours; EIA-815, “Monthly Terminal Blenders Report,”—5.00 hours; EIA-816, “Monthly Natural Gas Liquids Report,”—0.95 hours; EIA-817, “Monthly Tanker and Barge Movement Report,”—2.25 hours; EIA-819, “Monthly Oxygenate Report,”—1.75 hours; and EIA-820, “Annual Refinery Report”—2.00 hours. The estimated burden includes the total time necessary to provide the requested information. In your opinion, how accurate is this estimate?

F. The agency estimates that the only cost to a respondent is for the time it will take to complete the collection. Will a respondent incur any start-up costs for reporting, or any recurring annual costs for operation, maintenance, and purchase of services associated with the information collection?

G. What additional actions could be taken to minimize the burden of this collection of information? Such actions may involve the use of automated, electronic, mechanical, or other technological collection techniques or other forms of information technology.

H. Does any other Federal, State, or local agency collect similar information? If so, specify the agency, the data element(s), and the methods of collection.

As a Potential User of the Information To Be Collected

A. Is the proposed collection of information necessary for the proper performance of the functions of the agency and does the information have practical utility?

B. What actions could be taken to help ensure and maximize the quality, objectivity, utility, and integrity of the information disseminated?

C. Is the information useful at the levels of detail to be collected?

D. For what purpose(s) would the information be used? Be specific.

E. Are there alternate sources for the information and are they useful? If so, what are their weaknesses and/or strengths?

Comments submitted in response to this notice will be summarized and/or included in the request for OMB approval of the forms. They also will become a matter of public record.

Statutory Authority: Section 13(b) of the Federal Energy Administration Act of 1974, Pub. L. 93-275, codified at 15 U.S.C. 772(b).

Issued in Washington, DC, on April 15, 2010.
Stephanie Brown,
Director, Statistics and Methods Group, Energy Information Administration.

[FR Doc. 2010-10831 Filed 5-6-10; 8:45 am]

BILLING CODE 6450-01-P